DEPARTMENT OF ENERGY

Federal Energy Regulatory Commission

Combined Notice of Filings #1

Take notice that the Commission received the following exempt wholesale generator filings:

Docket Numbers: EG19-27-000.

Applicants: LUZ Solar Partners VIII, Ltd.

Description: Notice of Self-Certification of Exempt Wholesale Generator Status of LUZ Solar Partners VIII, Ltd.

Filed Date: 11/29/18.

Accession Number: 20181129-5173.

Comments Due: 5 p.m. ET 12/20/18.

Docket Numbers: EG19-28-000.

Applicants: LUZ Solar Partners IX, Ltd.

Description: Notice of Self-Certification of Exempt Wholesale Generator Status of LUZ Solar Partners IX, Ltd.

Filed Date: 11/29/18.

Accession Number: 20181129-5174.

Comments Due: 5 p.m. ET 12/20/18.

Take notice that the Commission received the following electric rate filings:

Docket Numbers: ER10-3310-013; ER18-53-001.

Applicants: New Harquahala Generating Company, LLC, CXA La Paloma, LLC.

Description: Supplement to October 18, 2018 Notice of Non-Material Change in Status of the Beal Entities.

Filed Date: 11/28/18.

Accession Number: 20181128-5173.

Comments Due: 5 p.m. ET 12/19/18.

Docket Numbers: ER19-5-001.

Applicants: Commonwealth Edison Company, PJM Interconnection, L.L.C.

Description: Tariff Amendment: ComEd submits its response to the Commission's 11/21/2018 Deficiency Letter to be effective 10/1/2018.

Filed Date: 11/29/18.

Accession Number: 20181129-5146.

Comments Due: 5 p.m. ET 12/20/18.

Docket Numbers: ER19-6-001.

Applicants: Delmarva Power & Light Company, PJM Interconnection, L.L.C.

Description: Tariff Amendment: Delmarva submits its response to the Commission's 11/21/2018 Deficiency Letter to be effective 10/1/2018.

Filed Date: 11/29/18.

Accession Number: 20181129-5074.

Comments Due: 5 p.m. ET 12/20/18.

Docket Numbers: ER19-10-001.

Applicants: Potomac Electric Power Company, PJM Interconnection, L.L.C.

Description: Tariff Amendment: PEPCO submits response to the Commission's 11/21/2018 Deficiency Letter to be effective 10/1/2018.

Filed Date: 11/29/18.

Accession Number: 20181129-5075.

Comments Due: 5 p.m. ET 12/20/18.

Docket Numbers: ER19-14-001.

Applicants: Baltimore Gas and Electric Company, PJM Interconnection, L.L.C.

Description: Tariff Amendment: BGE submits its response to the Commission's 11/21/2018 Deficiency Letter to be effective 10/1/2018.

Filed Date: 11/29/18.

Accession Number: 20181129-5147.

Comments Due: 5 p.m. ET 12/20/18.

Docket Numbers: ER19-18-001.

Applicants: Atlantic City Electric Company, PJM Interconnection, L.L.C.

Description: Tariff Amendment: ACE submits its response to the Commission's 11/21/2018 Deficiency Letter to be effective 10/1/2018.

Filed Date: 11/29/18.

Accession Number: 20181129-5100.

Comments Due: 5 p.m. ET 12/20/18.

Docket Numbers: ER19-415-000.

Applicants: Midcontinent Independent System Operator, Inc.

Description: § 205(d) Rate Filing: 2018-11-28_SA 3037 Pine River Wind-METC 2nd Revised GIA (J589 J794) to be effective 11/13/2018.

Filed Date: 11/28/18.

Accession Number: 20181128-5142.

Comments Due: 5 p.m. ET 12/19/18.

Docket Numbers: ER19-416-000.

Applicants: Florida Power & Light Company.

Description: § 205(d) Rate Filing: FPL and LCEC Rate Schedule FERC No. 327 to be effective 1/27/2019.

Filed Date: 11/28/18.

Accession Number: 20181128-5144.

Comments Due: 5 p.m. ET 12/19/18.

Docket Numbers: ER19-417-000.

Applicants: CenterPoint Energy Houston Electric, LLC.

Description: § 205(d) Rate Filing: TFO Tariff Interim Rate Revision to Conform with PUCT-Approved Rate to be effective 11/26/2018.

Filed Date: 11/28/18.

Accession Number: 20181128-5162.

Comments Due: 5 p.m. ET 12/19/18.

Docket Numbers: ER19-418-000.

Applicants: Southwest Power Pool, Inc.

Description: § 205(d) Rate Filing: 1910R13 Southwestern Public Service Company NITSA NOA to be effective 11/1/2018.

Filed Date: 11/29/18.

Accession Number: 20181129-5043.

Comments Due: 5 p.m. ET 12/20/18.

Docket Numbers: ER19-419-000.

Applicants: Midcontinent Independent System Operator, Inc., ALLETE, Inc.

Description: § 205(d) Rate Filing: 2018-11-29_SA 3217 MP-GRE ICA (Verndale) to be effective 11/30/2018.

Filed Date: 11/29/18.

Accession Number: 20181129-5045.

Comments Due: 5 p.m. ET 12/20/18.

Docket Numbers: ER19-420-000.

Applicants: Mendota Hills, LLC.

Description: Baseline eTariff Filing: Rate Schedule for Reactive Supply and Voltage Control to be effective 2/1/2019.

Filed Date: 11/29/18.

Accession Number: 20181129-5083.

Comments Due: 5 p.m. ET 12/20/18.

Docket Numbers: ER19-421-000.

Applicants: Southern California Edison Company.

Description: § 205(d) Rate Filing: Certificate of Concurrence APS ANPP Hassayampa Switchyard IA to be effective 9/7/2018.

Filed Date: 11/29/18.

Accession Number: 20181129-5108.

Comments Due: 5 p.m. ET 12/20/18.

Docket Numbers: ER19-422-000.

Applicants: Portal Ridge Solar B, LLC.

Description: § 205(d) Rate Filing: SFA amendment to be effective 11/30/2018.

Filed Date: 11/29/18.

Accession Number: 20181129-5113.

Comments Due: 5 p.m. ET 12/20/18.

Docket Numbers: ER19-423-000.

Applicants: Portal Ridge Solar C, LLC.

Description: § 205(d) Rate Filing: CTA Amendment to be effective 11/30/2018.

Filed Date: 11/29/18.

Accession Number: 20181129-5115.

Comments Due: 5 p.m. ET 12/20/18.

Docket Numbers: ER19-424-000.

Applicants: Midcontinent Independent System Operator, Inc.

Description: § 205(d) Rate Filing: 2018-11-29_SA 3159 Termination of ATC-WEPCO PCA (Berryville) to be effective 11/30/2018.

Filed Date: 11/29/18.

Accession Number: 20181129-5117.

Comments Due: 5 p.m. ET 12/20/18.

Docket Numbers: ER19-425-000.

Applicants: Portal Ridge Solar A, LLC.

Description: Tariff Cancellation: Notice of Cancellation of Certificate of Concurrence to Co-Tenancy Agreement to be effective 11/30/2018.

Filed Date: 11/29/18.

Accession Number: 20181129-5124.

Comments Due: 5 p.m. ET 12/20/18.

Docket Numbers: ER19-426-000.

Applicants: LUZ Solar Partners VIII, Ltd.

Description: Baseline eTariff Filing: MBR Application to be effective 1/29/2019.

Filed Date: 11/29/18.

Accession Number: 20181129-5125.

Comments Due: 5 p.m. ET 12/20/18.

Docket Numbers: ER19-427-000.

Applicants: LUZ Solar Partners IX, Ltd.

Description: Baseline eTariff Filing: MBR Application to be effective 1/29/2019.

Filed Date: 11/29/18.

Accession Number: 20181129-5145.

Comments Due: 5 p.m. ET 12/20/18.

Docket Numbers: ER19-428-000.

Applicants: Southwestern Electric Power Company.

Description: § 205(d) Rate Filing: Revised and Restated Minden PSA to be effective 1/1/2018.

Filed Date: 11/29/18.

Accession Number: 20181129-5148.

Comments Due: 5 p.m. ET 12/20/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 29, 2018.
Nathaniel J. Davis, Sr.,
Deputy Secretary.

[FR Doc. 2018-26489 Filed 12-4-18; 8:45 am]

BILLING CODE 6717-01-P